ENVIRONMENTAL PROTECTION AGENCY

[EPA-HQ-OPP-2010-0014; FRL-9920-12]

Product Cancellation Order for Certain Pesticide Registrations

AGENCY: Environmental Protection Agency (EPA).

ACTION: Notice.

SUMMARY: This notice announces EPA's order for the cancellations, voluntarily requested by the registrants and accepted by the Agency, of the products listed in Table 1 of Unit II., pursuant to the Federal Insecticide, Fungicide, and Rodenticide Act (FIFRA). This cancellation order follows an April 11, 2014 Federal Register Notice of Receipt of Requests from the registrants listed in Table 2 of Unit II. to voluntarily cancel these product registrations. In the April 11, 2014 Federal Register notice, EPA indicated that it would issue an order implementing the cancellations, unless the Agency received substantive comments within the 180 day comment period that would merit its further review of these requests, or unless the registrants withdrew their requests. The Agency received comments on the April 11, 2014 Federal Register notice but none merited its further review of the requests. Further, the registrants did not withdraw their requests. Accordingly, EPA hereby issues in this notice a cancellation order granting the requested cancellations. Any distribution, sale, or use of the products subject to this cancellation order is permitted only in accordance with the terms of this order, including any existing stocks provisions.

DATES: The cancellations are effective December 17, 2014.

FOR FURTHER INFORMATION CONTACT: Janeese Hackley, Pesticide Re-Evaluation Division (7508P), Office of Pesticide Programs, Environmental Protection Agency, 1200 Pennsylvania Ave. NW., Washington, DC 20460-0001; telephone number: (703) 605-1523; email address: hackley.janeese@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2010-0014, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the cancellation, as requested by registrants, of products registered under FIFRA section 3 (7 U.S.C. 136a). These registrations are listed in sequence by registration number in Table 1 of this unit.

Table 1—Product Cancellations
EPA registration No. | Product name | Chemical name
000264-00941 | Gustafson Baytan 30 Flowable Fungicide | Triadimenol.
000264-00948 | Gustafson LSP Flowable Fungicide | Thiabendazole.
000264-01036 | Trilex Advanced Pak | Metalaxyl, triadimenol, and trifloxystrobin.
005383-00068 | Troysan 174P | 2-((Hydroxymethyl)amino) ethanol.
035935-00066 | Trinexapac-ethyl Technical | Trinexapac-ethyl.
AZ-080015 | Proclipse 65 WDG | Prodiamine.
CA-080022 | Proclipse 65 WDG | Prodiamine.
LA-090001 | Dual Magnum | S-Metolachlor.
ND-030001 | Apron MAXX RTA | Fludioxonil and metalaxyl-M.
ND-030002 | Apron MAXX RTA | Fludioxonil and metalaxyl-M.
OR-080034 | Evito 480 SC Fungicide | Fluoxastrobin.
OR-100007 | Bird Shield Bird Repellent Concentrate | Methyl anthranilate.
TX-090007 | Gramoxone Inteon | Paraquat dichloride.
WA-090009 | Retain Plant Growth Regulator Soluble Powder | 3-Butenoic acid, 2-amino-4-(2-aminoethoxy)-, monohydrochloride, (S-(E))-,.
WA-120013 | Sevin Brand 4F Carbaryl Insecticide | Carbaryl.

Table 2 of this unit includes the names and addresses of record for all registrants of the products in Table 1 of this unit, in sequence by EPA company number. This number corresponds to the first part of the EPA registration numbers of the products listed in Table 1 of this unit.

Table 2—Registrants of Cancelled Products
EPA company No. | Company name and address
264 | Bayer CropScience, LP, 2 T.W. Alexander Dr., P.O. Box 12014, Research Triangle Park, NC 27709.
5383 | Troy Chemical Corporation, 8 Vreeland Rd., P.O. Box 955, Florham Park, NJ 07932-4200.
35935 | Nufarm Limited Agent: Nufarm Limited, 4020 Aerial Center Pkwy., Suite 103, Morrisville, NC 27560.
AZ-080015, CA-080022 | Nufarm Americas, Inc., Agent: Nufarm Americas, Inc. 4020 Aerial Center Pkwy., Suite 101, Morrisville, NC 27560.
LA-090001, ND-030001, ND-030002, TX-090007 | Syngenta Crop Protection, LLC, 410 Swing Rd., P.O. Box 18300 Greensboro, NC 27419-8300.
OR-080034 | Arysta Lifescience North America, LLC, 15401 Weston Pkwy., Suite 150, Cary, NC 27513.
OR-100007 | Bird Shield Repellent Corporation, 254 E. Main St., Suite 226A, P.O. Box 785, Pullman, WA 99163.
WA-090009 | Valent BioSciences Corporation, 870 Technology Way, Libertyville, IL 60048-6316.
WA-120013 | Tessenderlo Kerley, Inc., Agent: Pyxis Regulatory Consulting, Inc., 4110 136th St. NW., Gig Harbor, WA 98332.

III. Summary of Public Comments Received and Agency Response to Comments

During the public comment period, EPA received one comment. The comment did not contain information about any specific product cancellation request. For this reason, the Agency does not believe that the comment submitted during the comment period merit further review or a denial of the request for voluntary cancellation.

IV. Cancellation Order

Pursuant to FIFRA section 6(f) (7 U.S.C. 136d(f)), EPA hereby approves the requested cancellations of the registrations identified in Table 1 of Unit II. Accordingly, the Agency hereby orders that the product registrations identified in Table 1 of Unit II. are canceled. The effective date of the cancellations that are the subject of this notice is December 17, 2014. Any distribution, sale, or use of existing stocks of the products identified in Table 1 of Unit II. in a manner inconsistent with any of the provisions for disposition of existing stocks set forth in Unit VI. will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of April 11, 2014 (79 FR 20200) (FRL-9908-81). The comment period closed on October 8, 2014.

VI. Provisions for Disposition of Existing Stocks

Existing stocks are those stocks of registered pesticide products which are currently in the United States and which were packaged, labeled, and released for shipment prior to the effective date of the cancellation action. The existing stocks provisions for the products subject to this order are as follows.

The registrants may continue to sell and distribute existing stocks of products listed in Table 1 of Unit II. until December 17, 2015, which is 1 year after the publication of the cancellation order in the Federal Register. Thereafter, the registrants are prohibited from selling or distributing products listed in Table 1 of Unit II., except for export in accordance with FIFRA section 17 (7 U.S.C. 136o), or proper disposal. Persons other than the registrants may sell, distribute, or use existing stocks of products listed in Table 1 of Unit II. until existing stocks are exhausted, provided that such sale, distribution, or use is consistent with the terms of the previously approved labeling on, or that accompanied, the canceled products.

Authority: 7 U.S.C. 136 et seq.

Dated: December 5, 2014.
Richard P. Keigwin, Jr.,
Director, Pesticide Re-Evaluation Division, Office of Pesticide Programs.

[FR Doc. 2014-29583 Filed 12-16-14; 8:45 am]

BILLING CODE 6560-50-P